DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension collection of the following: (1) Request for Earnings Information (LS-426); and (2) Recordkeeping Requirements of Regulations 29 CFR 516.34, to Implement the Remedial Education Provisions of the Fair Labor Standards Act (FLSA). Copies of the proposed information collection requests can be obtained by contacting the office listed below in the addressee section of this Notice.

DATES: Written comments must be submitted to the office listed in the ADDRESSES section below within 60 days of the date of this Notice.

ADDRESSES: Ms. Patricia A. Forkel, U.S. Department of Labor, 200 Constitution Ave., N.W., Room S-3201, Washington, DC 20210, telephone (202) 693-0339 (this is not a toll-free number), fax (202) 693-1451.

SUPPLEMENTARY INFORMATION:

Request for Earnings Information, LS-426

I. Background

The Office of Workers' Compensation Programs (OWCP) administers the Longshore and Harbor Workers' Compensation Act, and its extensions. These Acts provide compensation benefits to injured workers. Pursuant to Section 8 of the Act, injured employees shall receive compensation in an amount equal to 66⅔ per centum of their average weekly wage. Form LS-426 is used to determine if the correct compensation rate is being paid.

II. Review Focus

The Department of Labor is particularly interested in comments which:

• Evaluate whether the proposed collection of information is necessary for the proper performance of the functions of the agency, including whether the information will have practical utility;

• Evaluate the accuracy of the agency's estimate of the burden of the proposed collection of information; including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to carry out its responsibility to assure that injured workers are paid at the proper compensation rate.

Type of Review: Extension

Agency: Employment Standards Administration

Title: Request for Earnings Information

OMB Number: 1215-0112

Agency Number: LS-426

Affected Public: Individuals or households

Total Respondents: 1,700

Frequency: On occasion

Total Responses: 1,700

Average Time per Response: 15 minutes

Estimated Total Burden Hours: 425

Total Burden Cost (capital/startup): $0

Total Burden (operational/maintenance): $0

Remedial Education Provisions of the Fair Labor Standards Act

I. Background

Under the Fair Labor Standards Act (FLSA), employees who lack a high school diploma or whose reading level or basic skills are at or below the eighth grade, may be required by their employers to attend up to 10 hours per week of remedial education. Employees who are subject to the overtime provisions of the FLSA ordinarily must be paid one and one-half times their regular rate of pay for all hours worked over 40 in each workweek. However, the additional hours devoted to such remedial education would not have to be compensated at the same time and one-half overtime rate. However, employees must receive compensation at their regular rate of pay for time spent receiving such remedial education. Employers wishing to utilize the partial overtime exemption for such employees must record the hours of employees spent in remedial education.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumption used;

•Enhance the quality, utility and clarity of the information to be collected; and

• Minimize the burden of the collection of information on those who are to respond, including through the use of appropriate automated, electronic, mechanical, or other technological collection techniques or other forms of information technology, e.g., permitting electronic submissions of responses. III. Current Actions: The Department of Labor seeks the extension of approval to collect this information in order to review and determine employer compliance with the applicable section of the FLSA.

Type of Review: Extension

Agency: Employment Standards Administration

Title: Recordkeeping Requirements of Regulations 29 CFR 516.34, the Regulations to Implement the Remedial Education Provisions of the Fair Labor Standards Act

OMB Number: 1215-0175

Affected Public: Business or other for-profit; not for profit institutions, State, Local or Tribal Government

Total Respondents: 15,000

Total Records: 30,000

Average Time per Response: 10 minutes

Estimated Total Burden Hours: 5,000

Total Burden Cost (capital/startup): $0

Total Burden (operational/maintenance): $0

Comments submitted in response to this notice will be summarized and/or included in the request for Office of Management and Budget approval of the information collection request; they will also become a matter of public record.

Dated: January 13, 2000.
Margaret J. Sherill,
Chief, Branch of Management Review and Internal Control, Division of Financial Management, Office of Management, Administration and Planning, Employment Standards Administration.

[FR Doc. 00-1391 Filed 1-19-00; 8:45 am]

BILLING CODE 4510-27-M